ENVIRONMENTAL PROTECTION AGENCY

40 CFR Parts 152 and 156

[OPP-250130; FRL-6750-8]

RIN 2070-AD14

Pesticide Labeling and Other Regulatory Revisions; Notification to the Secretary of Agriculture

AGENCY: Environmental Protection Agency (EPA).

ACTION: Notification to the Secretary of Agriculture.

SUMMARY: This document notifies the public that the Administrator of EPA has forwarded to the Secretary of Agriculture a draft final rule under section 25(a) of the Federal Insecticide, Fungicide, and Rodenticide Act (FIFRA). The draft final rule accomplishes a number of minor revisions to pesticide labeling and program regulations. These revisions reformat and update hazard labeling for clarity, interpret provisions of FIFRA as they apply to nitrogen stabilizers, and codify certain exclusions and exemptions for chemical sterilants.

FOR FURTHER INFORMATION CONTACT: By mail: Jean M. Frane, Field and External Affairs Division 7506C, Office of Pesticide Programs, Environmental Protection Agency, 1200 Pennsylvania Ave., NW., Washington DC 20460; telephone number: 703-305-5944; e-mail address: frane.jean@epa.gov.

SUPPLEMENTARY INFORMATION:

I. General Information

A. Does this Action Apply to Me?

You may be potentially affected by this action if you are a pesticide registrant or producer. Potentially affected categories and entities may include, but are not limited to:

Categories | NAICS codes | Examples of potentially affected entities
Producers | 32532 | Pesticide producers
| 32531 | Nitrogen stabilizer producers
| 32561 | Antimicrobial producers
Wholesalers | 42269 | Antimicrobial products
| 42291 | Pesticide products

This listing is not exhaustive, but rather provides a guide for readers regarding entities likely to be affected by this action. Other types of entities not listed in the table could also be affected. The North American Industrial Classification System (NAICS) codes have been provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations, ” “Regulations and Proposed Rules,” and then look up the entry for this document under the “Federal Register —Environmental Documents.” You can also go directly to the Federal Register listings at http://www.epa.gov/fedrgstr/.

2. In person. The Agency has extablished an official record for this action under docket control number OPP-250130. The official record consists of the documents specifically referenced in this action, and other information related to this action, including any information claimed as Confidential Business Information (CBI). This official record includes the ducuments that are physically located in the docket, as well as the documents that are referenced in those documents. The public version of the offcial record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. What Action is EPA Taking?

Section 25(a)(2) of FIFRA provides that the Administrator must provide the Secretary of Agriculture with a copy of any regulation at least 30 days before signing it for publication in the Federal Register. The draft final rule is not available to the public until after it has been signed by EPA. If the Secretary comments in writing regarding the draft final rule within 15 days after receiving it, the Administrator shall include in the final rule when published in the Federal Register the comments of the Secretary and the Administrator's response to those comments. If the Secretary does not comment in writing within 15 days after receiving the draft final rule, the Administrator may sign the final rule for publication in the Federal Register anytime after the 15-day period.

III. Do Any Regulatory Assessment Requirements Apply to this Notification?

No. This document is not a rule, merely a notification of submission to the Secretary of Agriculture. As such, none of the regulatory assessment requirements apply to this document.

IV. Will EPA Submit this Notification to Congress and the Comptroller General?

No. This action is not a rule for purposes of the Congressional Review Act (CRA), 5 U.S.C. 804(3), and will not be submitted to Congress and the Comptroller General. EPA will submit the final rule to Congress and the Comptroller General as required by the CRA.

List of Subjects in Parts 152 and 156

Environmental Protection, Administrative practice and procedure, Labeling, Occupational safety and health, Pesticides and pests, Reporting and recordkeeping requirements

Dated: August 16, 2001.
Marcia E. Mulkey
Director, Office of Pesticide Programs.

[FR Doc. 01-21708 Filed 8-28-00]

BILLING CODE 6560-50-S